DEPARTMENT OF COMMERCE

International Trade Administration

[A-580-848]

Certain Cold-Rolled Carbon Steel Flat Products from Korea: Postponement of Final Determination of Antidumping Investigation

AGENCY: Import Administration, International Trade Administration, Department of Commerce.

ACTION: Notice of Postponement of Final Determination of Antidumping Investigation.

EFFECTIVE DATE: June 28, 2002.

FOR FURTHER INFORMATION CONTACT: Brian Ledgerwood or Mark Young, AD/CVD Enforcement Office VI, Group II, Import Administration, International Trade Administration, U.S. Department of Commerce, 14th Street and Constitution Avenue, NW, Washington, DC 20230; telephone: (202) 482-3836 or (202) 482-6397, respectively.

SUPPLEMENTARY INFORMATION:

TIME LIMITS:

Statutory Time Limits

Section 735(a)(1) of the Tariff Act of 1930, as amended (the Act), requires the Department to issue (1) the final determination regarding sales at less than fair value (LTFV) in this investigation within 75 days after the date of its preliminary determination. However, section 735(a)(2) of the Act states that the Department may extend the time limit for the final determination until not later than 135 days after the date of publication of the preliminary determination if, in the case of a proceeding in which the preliminary determination by the administering authority under section 733(b) was affirmative, a request in writing for such a postponement is made by an exporter which accounts for a significant portion of the exports of the merchandise which is subject to the investigation. Section 351.210 of the Department's regulations further states that the exporter must also request that the Department extend the provisional measures from a four month period to a period of not more than 6 months. Alternatively, in the case of a proceeding in which the preliminary determination by the administering authority under section 733(b) was negative, the request for postponement may be made in writing by the petitioner.

Background

On May 9, 2002, the Department published the preliminary determination regarding sales at LTFV in this investigation (67 FR 31225). We preliminarily determined that certain cold-rolled carbon steel flat products (cold-rolled steel) from Korea are being, or likely to be, sold in the United States at LTFV, as provided in section 733(b) of the Tariff Act of 1930, as amended. On May 30, 2002, both respondents in this investigation, requested that the Department postpone the final determination to 135 days after the publication of the preliminary determination and requested that the Department extend the provisional measures period from four months to a period not longer than 6 months.

Postponement of Final Determination

Given the fact that the Department made an affirmative preliminary determination and the largest exporter/producer of imports during the period of investigation requested postponement and also asked that the Department extend the provisional measures from a four month period to a period of not more than six months, as required by the Department's regulations, we are postponing the final determination until no later than September 23, 2002 (i.e., 135 days after the publication of the preliminary determination).

This extension is in accordance with section 735(a)(2)(A) of the Act.

Dated: June 21, 2002
Joseph A. Spetrini,
Acting Assistant Secretary for Import Administration.

[FR Doc. 02-16373 Filed 6-27-02; 8:45 am]

BILLING CODE 3510-DS-S